FEDERAL COMMUNICATIONS COMMISSION

47 CFR Parts 1, 2, 25, 27, and 101

[WT Docket Nos. 12-70, 04-356; ET Docket No. 10-142; Report No. 2992]

Petition for Reconsideration of Action in Rulemaking Proceeding

AGENCY: Federal Communications Commission.

ACTION: Petition for reconsideration.

SUMMARY: In this document, a Petition for Reconsideration (Petition) has been filed in the Commission's Rulemaking proceeding by Donald J. Evans on behalf of NTCH, Inc.

DATES: Oppositions to the Petition must be filed on or before November 13, 2013. Replies to an opposition must be filed on or before November 25, 2013.

ADDRESSES: Federal Communications Commission, 445 12th Street SW., Washington, DC 20554.

FOR FURTHER INFORMATION CONTACT: Matthew Pearl, Wireless Telecommunications Bureau, phone: (202) 418-2607 or TTY (202) 418-7233.

SUPPLEMENTARY INFORMATION: This is a summary of Commission's document, Report No. 2992, released September 24, 2013. The full text of Report No. 2992 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Service Rules for Advanced Wireless Services in the 2000-2020 MHz and 2180-2200 MHz Bands, published at 78 FR 8229 February 5, 2013, in WT Docket Nos. 12-70, 04-356 and ET Docket No. 10-142; and published pursuant to 47 CFR 1.429(e). See also § 1.4(b)(1) of the Commission's rules.

Number of Petitions Filed: 1.

Federal Communications Commission.
Marlene H. Dortch,
Secretary, Office of the Secretary, Office of Managing Director.

[FR Doc. 2013-25435 Filed 10-28-13; 8:45 am]

BILLING CODE 6712-01-P